DEPARTMENT OF HOMELAND SECURITY

Coast Guard

33 CFR Part 117

[Docket No. USCG-2012-0911]

Drawbridge Operation Regulation; City Waterway Also Known as Thea Foss Waterway, Tacoma, WA

AGENCY: Coast Guard, DHS.

ACTION: Notice of deviation from drawbridge regulation.

SUMMARY: The Coast Guard has issued a temporary deviation from the operating schedule that governs the South 11th Street (“Murray Morgan”) Bridge across the City Waterway also known as the Thea Foss Waterway, mile 0.6, at Tacoma, WA. The current test deviation will expire 8 a.m. June 15, 2013. This deviation is necessary to continue with the current operating schedule until the final rulemaking changes permanently go into effect.

DATES: This deviation is effective from 8 a.m. on June 15, 2013 to 8 a.m. June 30, 2013.

ADDRESSES: The docket for this deviation, [USCG-2012-0911] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Lieutenant Commander Steven Fischer, Bridge Specialist, Coast Guard Thirteenth District; telephone 206-220-7277, email Steven.M.Fischer2@uscg.mil. If you have questions on viewing the docket, call Barbara Hairston, Program Manager, Docket Operations, telephone 202-366-9826.

SUPPLEMENTARY INFORMATION: On November 20, 2012, the Coast Guard published a notice of proposed rulemaking (NPRM) entitled, “Drawbridge Operation Regulation; Thea Foss Waterway previously known as City Waterway, Tacoma, WA” in the Federal Register (77 FR 69576). This NPRM proposed three changes to the operating schedule of the Murray Morgan Bridge, also known as the South 11th Street Bridge, across Thea Foss Waterway, previously known as City Waterway, mile 0.6, at Tacoma.

The first change requires that for bridge openings needed between 10 p.m. and 8 a.m., notification be made no later than 8 p.m. prior to the desired opening. This differs from the existing regulation in that presently the bridge is required to open at all times (except during authorized closure periods) provided two hours advance notice is given. Over an 18 month period there were only 6 bridge openings requested between 10 p.m. and 8 a.m. which averages one bridge opening request per three month period. One of the unique features of the Murray Morgan Bridge is its height above the waterway providing 60 feet of clearance at mean high water (MHW) in the closed position. Because of this vertical clearance the overwhelming majority of vessels which transit this waterway do not require a bridge opening. The majority of bridge openings are for locally moored and operated recreational sailboats with mast heights over 60 feet. Almost all of these vessels are moored at marinas in very close proximity of the bridge.

The second change is removing the authorized bridge closure periods in the morning and afternoon. The current regulation states that the draw need not be opened from 6:30 a.m. to 8:30 a.m. and 3:30 p.m. to 5:30 p.m. Monday through Friday, for vessels of less than 1,000 gross tons. This change requires the draw to open at all times with proper advance notification. The morning and afternoon authorized closures of the bridge outlined in the existing regulation were put into place when the bridge was part of SR 509, a continuous route from Northeast Tacoma to downtown, and traffic volumes were approximately 15,000 vehicles per day. In 1997 a new SR 509 was constructed approximately 0.7 miles south of the bridge and is now used as the main traffic corridor. After completion of the new SR 509, the Murray Morgan Bridge connection between Northeast Tacoma and downtown was severed due to roadway reconfiguration, resulting in traffic volumes dropping dramatically; therefore, the bridge no longer conveys high volumes of traffic during the morning and afternoon rush hours.

The third change is principally administrative and changes the contact information for emergency bridge openings. The existing regulation states “In emergencies, openings shall be made as soon as possible upon notification to the Washington State Department of Transportation.” The change requires notification for emergency opening to be made to the City of Tacoma. The reason for this change is because Washington State turned over ownership and responsibility of the bridge to the City of Tacoma on January 6, 1998.

In conjunction with the NPRM published on November 20, 2012, the Coast Guard published a temporary deviation from regulations entitled, “Drawbridge Operation Regulation; Thea Foss Waterway previously known as City Waterway, Tacoma, WA” in the Federal Register (77 FR 69562) to test the operating schedule under the proposed regulations. Under this temporary deviation the bridge operates as follows: The draw of the Murray Morgan Bridge, also known as the South 11th Street Bridge, across Thea Foss Waterway, previously known as City Waterway, mile 0.6, at Tacoma, shall open on signal if at least two hours notice is given. However, to obtain a bridge opening between 10 p.m. and 8 a.m. notification must be made to the City of Tacoma by 8 p.m. In emergencies, openings shall be made as soon as possible upon notification to the City of Tacoma. The Murray Morgan Bridge is a vertical lift bridge which provides a vertical clearance of 60 feet above mean high water (MHW) while in the closed position and 135 feet of vertical clearance in the open position. Vessels which do not require a bridge opening may continue to transit beneath the bridge at any time.

This test deviation is set to expire at 8 a.m. June 15, 2013. However, the final rule which will make these changes to the operating schedule permanent will not be effective by the date in which the test deviation expires. Therefore, to maintain safe and efficient transit through the bridge, the Coast Guard has issued a temporary deviation from regulations to continue the current operating schedule as laid out above until June 30, 2013. The Coast Guard will also inform the users of the waterways through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: May 23, 2013.
Daryl R. Peloquin,
Bridge Administrator, Thirteenth Coast Guard District.

[FR Doc. 2013-13424 Filed 6-5-13; 8:45 am]

BILLING CODE 9110-04-P